DEPARTMENT OF EDUCATION

[Docket No.: ED-2021-SCC-0124]

Agency Information Collection Activities; Submission to the Office of Management and Budget for Review and Approval; Comment Request; Impact Evaluation of Training in Multi-Tiered Systems of Support for Reading in Early Elementary School

AGENCY: Institute of Education Sciences (IES), Department of Education (ED).

ACTION: Notice.

SUMMARY: In accordance with the Paperwork Reduction Act of 1995, ED is proposing a revision of a currently approved collection.

DATES: Interested persons are invited to submit comments on or before January 26, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Lauren Angelo, 202-245-7474.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Training in Multi-Tiered Systems of Support for Reading in Early Elementary School.

OMB Control Number: 1850-0953.

Type of Review: A revision of a currently approved collection.

Respondents/Affected Public: Individuals and Households; State, Local, and Tribal Governments

Total Estimated Number of Annual Responses: 24,465.

Total Estimated Number of Annual Burden Hours: 5,301.

Abstract: This study will provide much needed evidence on strategies to support US students' development of foundational reading skills, essential to later learning.

A third of US students fail to develop foundational reading skills by 4th grade that are necessary to succeed academically. In addition, the achievement gap is growing as demonstrated by The Nation's Report Card. To address this, the Every Student Succeeds Act (ESSA) promotes the use of evidence-based literacy interventions. And, the Department of Education (ED) has made supporting educators with the knowledge, skills, professional development, or materials necessary to improve reading instruction a key priority. The Individuals with Disabilities Education Act (IDEA) similarly encourages high quality instruction along with better identification of students needing extra support to prevent or mitigate student reading issues.

This study will provide much needed evidence by evaluating two professional development strategies for bolstering core reading instruction and supplemental supports, guided by data, within a MTSS-R framework. MTSS-R is a widely used framework for providing high-quality reading instruction for all students, identifying students needing supplemental or more intensive supports, and providing these additional supports for those who need it.

Dated: December 21, 2021.
Juliana Pearson,
PRA Coordinator, Strategic Collections and Clearance Governance and Strategy Division, Office of Chief Data Officer, Office of Planning, Evaluation and Policy Development.

[FR Doc. 2021-28061 Filed 12-23-21; 8:45 am]

BILLING CODE 4000-01-P